FEDERAL ELECTION COMMISSION

Sunshine Act Notices

DATE and TIME: Friday, December 14, 2007, at 1 p.m.

PLACE: 999 E Street, NW., Washington, DC (Ninth Floor).

STATUS: This meeting will be open to the public.

The following item has been added to the Agenda: Final Rules on Candidate Travel.

PERSON TO CONTACT FOR INFORMATION: Mr. Robert Biersack, Press Officer, Telephone: (202) 694-1220.

Mary W. Dove,
Secretary of the Commission.

[FR Doc. 07-6059 Filed 12-12-07; 11:57 am]

BILLING CODE 6715-01-M